DEPARTMENT OF HEALTH AND HUMAN SERVICES

Centers for Medicare & Medicaid Services

42 CFR Parts 412, 413, and 476

[CMS-1518-CN3]

RIN 0938-AQ24; 0938-AQ92

Medicare Program; Hospital Inpatient Prospective Payment Systems for Acute Care Hospitals and the Long-Term Care Hospital Prospective Payment System and Fiscal Year 2012 Rates; Hospitals' FTE Resident Caps for Graduate Medical Education Payment; Corrections

AGENCY: Centers for Medicare & Medicaid Services (CMS), HHS.

ACTION: Correction of final rule.

SUMMARY: This document corrects technical errors and typographical errors in the final rule entitled “Medicare Program; Hospital Inpatient Prospective Payment Systems for Acute Care Hospitals and the Long-Term Care Hospital Prospective Payment System and FY 2012 Rates; Hospitals' FTE Resident Caps for Graduate Medical Education Payment; Corrections” which appeared in the August 18, 2011 Federal Register.

DATES: This correction document is effective October 1, 2011.

FOR FURTHER INFORMATION CONTACT:

Brian Slater, (410) 786-5229, Hospital inpatient wage data.

Michele Hudson, (410) 786-4487, Long-term care hospital wage data.

Caroline Gallaher, (410) 786-8705, Long-term care hospital quality measures.

SUPPLEMENTARY INFORMATION:

I. Background

In FR Doc. 2011-19719 of August 18, 2011 (76 FR 51476), the final rule entitled “Medicare Program; Hospital Inpatient Prospective Payment Systems for Acute Care Hospitals and the Long-Term Care Hospital Prospective Payment System and FY 2012 Rates; Hospitals' FTE Resident Caps for Graduate Medical Education Payment; Corrections” (hereinafter referred to as the FY 2012 IPPS/FY 2012 LTCH PPS final rule) there were a number of technical errors that are identified and corrected in the Correction of Errors section. We have already made changes to our rates through PRICER and joint signature memoranda. Accordingly, the corrections are effective October 1, 2011.

II. Summary of Errors and Corrections Posted on the CMS Web Site

A. Errors in the Preamble

On page 51745, in our discussion of quality reporting for long-term care hospitals (LTCHs) for FY 2014 payment determinations, Measure #1, we inadvertently miscounted and omitted a footnote.

On pages 51746 and 51747, in our discussion of the technical expert panel (TEP) we made typographical errors and made a technical error in a footnote.

On page 51747, in our discussion of the TEP, the acronym for Center Line Catheter-Associated Bloodstream Infection (CLABSI) was inadvertently misspelled.

On page 51748, in our discussion of quality reporting for LTCHs for FY 2014 payment determinations, Measure #2, we inadvertently included an incorrect Web site link for detailed information on the Standardized Infection Ratio (SIR).

On page 51752, in our discussion of quality reporting for LTCHs data submission, we made an error in referencing the number of States in which healthcare associated infections (HAIs) reporting is already or soon will be mandated.

On page 51754, in our discussion of the method of data collection and submission for the pressure ulcer measure, we made typographical and technical errors.

On page 51755, in our discussion of Continuity Assessment Record & Evaluation (CARE), we made a grammatical error.

On page 51780, in our discussion of the information collection requirements (ICRs) for the quality reporting program for LTCHs, we made an error in the number of States that already submitted HAI data to National Healthcare Safety Network (NHSN).

On page 51813, in our discussion of the Web site location for the LTCH PPS tables for the FY 2012 IPPS/FY 2012 LTCH PPS final rule, we made a typographical error in the regulation number.

B. Corrections Posted on the CMS Web Site

On pages 51812 and 51813, we list tables 2, 3A, 3B, 3C, 4A, 4B, 4C, 4J, 9A, 9C, 12A, and 12B as tables that are available only through the Internet.

In Table 2.—Acute Care Hospitals Case-Mix Indexes for Discharges Occurring in Federal Fiscal Year 2010; Hospital Wage Indexes for Federal Fiscal Year 2012; Hospital Average Hourly Wages for Federal Fiscal Years 2010 (2006 Wage Data), 2011 (2007 Wage Data), and 2012 (2008 Wage Data); and 3-Year Average of Hospital Average Hourly Wages, we are correcting technical errors in hospitals' wage data or geographic classifications that were used in calculating the wage index that was published in the FY 2012 IPPS/FY 2012 LTCH PPS final rule. We are correcting Table 2 by including corrections to the wage data for providers 010001 and 340039; the providers' corrected wage data were inadvertently omitted from the final FY 2012 wage index database. In addition, we are correcting errors in geographic classification for 3 providers (providers 150112, 180017, and 190246). As a result of the wage data and geographic classification corrections made for the 5 providers noted, we are also correcting the wage index for other providers that are located in or reclassified to the same geographic area.

In Table 3A.—FY 2012 and 3-Year Average Hourly Wage for Acute Care Hospitals in Urban Areas by CBSA and Table 3B—FY 2012 and 3-Year Average Hourly Wage for Acute Care Hospitals in Rural Areas by CBSA, we are correcting certain area average hourly wages based on corrections to errors in hospital wage data. As discussed previously, in Table 2 we are correcting the wage data for 2 providers. The corrections for one of these 2 providers (010001) require a correction in the associated area average hourly wage. The correction of the geographic classification of provider 190246 also requires corrections to the associated area average hourly wages. Therefore, we are correcting the area average hourly wage for CBSA 20020 (Dothan, AL) and CBSA 33740 (Monroe, LA) in Table 3A and also correcting the area average hourly wage for CBSA 19 (rural Louisiana) in Table 3B. The correction to the wage data for provider 340039 does not result in a change in the associated area wage index.

In Table 4A.—Wage Index and Capital Geographic Adjustment Factor (GAF) for Acute Care Hospitals in Urban Areas; Table 4B.—Wage Index and Capital Geographic Adjustment Factor (GAF) for Acute Care Hospitals in Rural Areas; and Table 4C.—Wage Index and Capital Geographic Adjustment Factor (GAF) for Acute Care Hospitals that are Reclassified, we are correcting technical errors in hospitals' wage data and geographic classifications that were used in calculating the wage index that was published in the FY 2012 IPPS/FY 2012 LTCH PPS final rule. In addition to correcting the wage data for provider 010001, provider 150112 should have been withdrawn from its reclassification to CBSA 26900 Indianapolis-Carmel, IN (that is, removing the provider from Table 9A); provider 180017 had reinstated a prior reclassification to CBSA 14540 Bowling Green, KY (that is, adding the provider to Table 9A) and provider 190246 was incorrectly listed in CBSA 19 (rural Louisiana), but should have been listed in CBSA 33740 Monroe, LA. CBSA 14 (rural Illinois) is removed from Table 4C because the only provider in Illinois that was reclassified to CBSA 14 cancelled its rural status under § 412.103 (as noted in Table 9C).

In Table 4J.—Out-Migration Adjustment for Acute Care Hospitals—FY 2012, we are adding provider 140167 to Table 4J to receive the outmigration adjustment because it cancelled its Lugar redesignation in order to receive the outmigration adjustment. Two additional counties are now listed in Table 4J. Coffee County, AL has two providers now receiving an outmigration adjustment (010027 and 010049). Dale County, AL has one provider now receiving an outmigration adjustment (010021). The outmigration adjustment for Caldwell County, LA has changed and affects one provider (190184).

In Table 9A.—Hospital Reclassifications and Redesignations—FY 2012, we are correcting technical errors in hospitals' geographic reclassifications that were used in calculating the wage index that was published in the FY 2012 IPPS/FY 2012 LTCH PPS final rule. Provider 150112 was erroneously listed in Table 9A of the Addendum to the final rule as being reclassified; and therefore, we are correcting the table by removing this provider from Table 9A. Conversely, provider 180017 is reclassified but was inadvertently omitted from Table 9A; and therefore, we are correcting this error by adding the provider to Table 9A.

In Table 9C.—Hospitals Redesignated as Rural Under Section 1886(d)(8)(E) of the Act—FY 2012, we erroneously listed provider 140167 in Table 9C. Therefore, we are correcting this error by removing provider 140167 from Table 9C.

In Table 12A.—LTCH PPS Wage Index for Urban Areas for Discharges Occurring From October 1, 2011 Through September 30, 2012 and Table 12B.— LTCH PPS Wage Index for Rural Areas for Discharges Occurring From October 1, 2011 Through September 30, 2012, we are correcting errors in the LTCH wage indices for 3 CSBAs (20020, 33740, and 19) as a result of the corrections we are making to the IPPS wage data that affects Tables 4A, 4B, and 4C described in this section of the document.

The corrections to the tables 2 through 9C discussed in this section of the correction document will be posted on the CMS Web site at http://www.cms.hhs.gov/AcuteInpatientPPS/01_overview.asp. Click on the link on the left side of the screen on titled, “FY 2012 IPPS Final Rule Home Page” or “Acute Inpatient—Files for Download.”

The corrections to the tables 12A and 12B discussed in this section of the correction document will be posted on the CMS Web site at http://www.cms.gov/LongTermCareHospitalPPS/LTCHPPSRN/list.asp under the list item for regulation number CMS-1518-F.

III. Waiver of Proposed Rulemaking and 30-Day Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

In our view, this document does not constitute a rulemaking that would be subject to the APA notice and comment or delayed effective date requirements. This document merely corrects typographical and technical errors in the preamble and addendum of the FY 2012 IPPS/FY 2012 LTCH PPS final rule and does not make substantive changes to the policies or payment methodologies that were adopted in the final rule. As a result, this document is intended to ensure that the FY 2012 IPPS/FY 2012 LTCH PPS final rule accurately reflects the policies adopted in that rule.

In addition, even if this were a rulemaking to which the notice and comment and delayed effective date requirements applied, we find that there is good cause to waive such requirements. Undertaking further notice and comment procedures to incorporate the corrections in this document into the final rule or delaying the effective date would delay these corrections beyond the October 1 start of the fiscal year, and would be contrary to the public interest. Furthermore, such procedures would be unnecessary, as we are not altering the policies that were already subject to comment and finalized in our final rule.

Therefore, we believe we have good cause to waive the notice and comment and effective date requirements.

IV. Correction of Errors

In FR Doc. 2011-19719 of August 18, 2011 (76 FR 51476), make the following corrections:

1. On page 51745, third column—

a. Fourth full paragraph, lines 13 and 14, the footnote reference number “²” is corrected to read “59a”.

b. Footnote text at bottom of the column, after line 4, the footnotes are corrected by adding a footnote to read as follows:

“59a Klevens RM, Edwards JR, Richards CL, Horan TC, Gaynes RP, Pollock DA, Cardo DM. Estimating healthcare-associated infection and deaths in U.S. hospitals, 2002. Public Health Reports 2007: 122:160-166. Available at http://www.cdc.gov/ncidod/dhqp/pdf/hicpac/infections_deaths.pdf.”

2. On page 51746,

a. First column, first full paragraph, lines 19 through 21, the phrase “The TEP convened by the our” is corrected to read “The TEP convened by our”.

b. Third column, footnote text at bottom of column is corrected to read as follows:

“⁶⁰ Klevens RM, Edwards JR, Richards CL, Horan TC, Gaynes RP, Pollock DA, Cardo DM. Estimating healthcare-associated infection and deaths in U.S. hospitals, 2002. Public Health Reports 2007: 122:160-166. Available at http://www.cdc.gov/ncidod/dhqp/pdf/hicpac/infections_deaths.pdf.”

3. On page 51747, third column, second full paragraph, line 3, the acronym “CLASBIs” is corrected to read as “CLABSI”.

4. On page 51748, second column, last paragraph, lines 20 through 21, the Web site link “http://www.cdc.gov/nhsn/PDFs/pscManual/7pscCAUTIcurrent.pdf” is corrected to read “http://www.cdc.gov/nhsn/pdfs/pscmanual/4psc_clabscurrent.pdf”.

5. On page 51752, third column, last paragraph, last line, the figure “11” is corrected to read “over 20”.

6. On page 51754, third column—

a. First partial paragraph, line 4, the phrase “nursing home” is corrected to read as “skilled nursing facility”.

b. Second full paragraph, line 3 and 4, the phrase “using a CARE subset of standardized data elements to collect” is corrected to read as “using a subset of standardized CARE data elements to collect”.

7. On page 51755, second column, first full paragraph, lines 9 and 10, the phrase “during the PAC-PRD” is corrected to read “during the Post Acute Care Payment Reform Demonstration (PAC-PRD).

8. On page 51780, second column, fifth paragraph, line 9, the figure “80” is corrected to read “over 200”.

9. On page 51813, third column, sixth paragraph, line 6, the reference “CMS-1518-P” is corrected to read “CMS-1518-F”.

(Catalog of Federal Domestic Assistance Program No. 93.773, Medicare—Hospital Insurance; and Program No. 93.774, Medicare—Supplementary Medical Insurance Program)

Dated: September 21, 2011.
Barbara J. Holland,
Deputy Executive Secretary to the Department, Department of Health Human Services.

[FR Doc. 2011-24669 Filed 9-23-11; 8:45 am]

BILLING CODE 4120-01-P